DEPARTMENT OF VETERANS AFFAIRS

[OMB Control No. 2900-0747]

Agency Information Collection Activity: Application for Disability Compensation and Related Compensation Benefits; Correction

AGENCY: Veterans Benefits Administration, Department of Veterans Affairs.

ACTION: Notice; correction.

SUMMARY: The Department of Veterans Affairs (VA) published a collection of information notice in the Federal Register on Wednesday, September 28, 2022, that contained an error. The 30-day Public Comment notice identified inaccurate language in the abstract for the Agency Information Collection Activity. This document corrects the notice by replacing this inaccuracy with the correct language.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0747” in any correspondence.

SUPPLEMENTARY INFORMATION:

Correction

FR Doc. 2022-21017, published on Wednesday, September 28, 2022, at 87 FR 187, make the following corrections. On page 58945, under the heading “Abstract,” please correct and replace the language with, “VA Form 21-526EZ is used to collect the information needed to process a claim for disability compensation and related compensation benefits. Though, this form was initially created to be used to submit fully developed claims (FDC), it has evolved into a standard claim form to be used for any benefit associated with disability compensation; to include new or initial claims and claims for increase.

The respondent burden for VA Form 21-526EZ has increased due to: the number of receivables averaged over the past year, general program changes—such as regulatory changes, and the continuing improvement of VA's electronic claims processing systems.

VA Form 21-526EZ has been updated, to include: new instructions on presumptive service connection; the GENDER question has been removed; a new Section IV: Exposure Information, including new questions that identify toxic exposures the claimant may have been exposed to during service; and an `Addendum' has been added to provide additional space for disabilities if the claimant has more than the space provided in Section V: Claim Information.

By direction of the Secretary.
Maribel Aponte,
VA PRA Clearance Officer, Office of Enterprise and Integration/Data Governance Analytics, Department of Veterans Affairs.

[FR Doc. 2022-21581 Filed 10-4-22; 8:45 am]

BILLING CODE 8320-01-P